DEPARTMENT OF THE INTERIOR

National Park Service

National Register of Historic Places; Notification of Pending Nominations and Related Actions

Nominations for the following properties being considered for listing or related actions in the National Register were received by the National Park Service before November 4, 2006. Pursuant to section 60.13 of 36 CFR Part 60 written comments concerning the significance of these properties under the National Register criteria for evaluation may be forwarded by United States Postal Service, to the National Register of Historic Places, National Park Service, 1849 C St. NW., 2280, Washington, DC 20240; by all other carriers, National Register of Historic Places, National Park Service,1201 Eye St. NW., 8th floor, Washington DC 20005; or by fax, 202-371-6447. Written or faxed comments should be submitted by December 2, 2006.

John W. Roberts,
Acting Chief, National Register/National Historic Landmarks Program.

CALIFORNIA

Fresno County

Buehler, Maynard and Katharine, House, 6 Great Oak Circle, Orinda, 06001118

GEORGIA

Taliaferro County

Locust Grove Cemetery, Locust Grove Rd. SE, Sharon, 06001119

HAWAII

Hawaii County

Anna Ranch, 65-1480 Kawaihae Rd., Kamuela, 06001120

IOWA

Cass County

American Legion Memorial Building, 201 Poplar St., Atlantic, 06001121

MARYLAND

Baltimore Independent City

Lion Brothers Company Building, 875 Hollins St., Baltimore (Independent City), 06001123

Carroll County

Arter, Philip and Uriah, Farm, 10 Deep Run Rd. W, Union Mills, 06001124

Howard County

Curtis-Shipley Farmstead, 5771 Waterloo Rd., Ellicott City, 06001127

Linnwood, 2327 Daniels Rd., Ellicott City, 06001126

Washington County

Hays, Joseph C., House, 103-105 W. Main St., Sharpsburg, 06001125

MASSACHUSETTS

Middlesex County Boxborough Old Town Center, Hill Rd., Middle Rd., Picnic St., Boxborough, 06001122

Wetherbee, Levi, Farm, 484 Middle Rd., Boxborough, 06001128

Plymouth County

Sachem Rock Farm, 355 Plymouth St., East Bridgewater, 06001129

NEW HAMPSHIRE

Sullivan County

First Universalist Chapel, 3 2nd New Hampshire Turnpike, Lempster, 06001130

TENNESSEE

Montgomery County

Port Royal Rd., N of the Red R juct W of TN 238, adjacent to the modern Port Royal Rd., Port Royal, 06001131

Rutherford County

Riverside Farm, (Historic Family Farms in Middle Tennessee MPS) 1218 W. Jefferson Pike, Walter Hill, 06001132

A request for a MOVE has been made for the following resource:

PENNSYLVANIA

Lancaster County

Keller's Covered Bridge (Covered Bridges of Lancaster County TR) SW of Ephrata on T 656, Ephrata township, Ephrata vicinity, 80003518

[FR Doc. E6-19495 Filed 11-16-06; 8:45 am]

BILLING CODE 4312-51-P